DEPARTMENT OF AGRICULTURE

Forest Service

Plantation Fuel Reduction, Eldorado National Forest, Eldorado County, CA

AGENCY: Forest Service, USDA.

ACTION: Withdrawal of notice of intent to prepare an Environmental Impact Statement.

SUMMARY: The USDA Forest Service, Eldorado National Forest will not prepare an Environmental Impact Statement (EIS) for a proposal to treat approximately 4,637 acres of selected plantations on the Georgetown and Pacific Ranger Districts with a combination of mechanical precommercial thinning and control of competitive vegetation using mechanical and chemical treatments.

The Notice of intent for this project was published in Federal Register Vol. 71. No. 195, October 10, 2006/Notices pages 59428-59429.

FOR FURTHER INFORMATION CONTACT: Dana Walsh, Georgetown Ranger District, 7600 Wentworth Springs Rd., Georgetown, CA 95634, or by telephone at 530-333-4312.

Ramiro Villalvazo,
Forest Supervisor.

[FR Doc. E9-21420 Filed 9-4-09; 8:45 am]

BILLING CODE 3410-11-M